DEPARTMENT OF AGRICULTURE

Rural Business-Cooperative Service

[DOCKET #: RBS-23-BUSINESS-0019]

Notice of Revision of a Currently Approved Information Collection

AGENCY: Rural Business-Cooperative Service, USDA.

ACTION: Notice; request for comments.

SUMMARY: In accordance with the Paperwork Reduction Act of 1995 the Rural Business-Cooperative Service (RBCS) announces its intention to request a revision for a currently approved information collection package for Rural Cooperative Development Grant (RCDG) program.

DATES: Comments on this notice must be received by January 23, 2024 to be assured of consideration.

ADDRESSES: Comments may be submitted electronically by the Federal eRulemaking Portal, http://www.regulations.gov.

Other Information: Additional information about Rural Development and its programs is available on the internet at https://www.rd.usda.gov.

FOR FURTHER INFORMATION CONTACT: Katherine Anne Mathis, Rural Development Innovation Center—Regulations Management Division, U.S. Department of Agriculture, 1400 Independence Avenue SW, Washington, DC 20250, Telephone: 202-713-7565, email: Katherine.mathis@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for extension.

Comments are invited on (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be submitted electronically by the Federal eRulemaking Portal, http://www.regulations.gov. In the “Search for dockets and documents on agency actions” box enter the Docket No. RBS-12-BUSINESS-0019 and click the “Search” button. From the search results, click on or locate the document title: “Notice of Revision of a Currently Approved Information Collection” and select the “Comment” button. Before inputting comments, commenters may review the “Commenter's Checklist” (optional). Insert comments under the “Comment” title, click “Browse” to attach files (if available), input email address and select “Submit Comment.” Information on using Regulations.gov, including instructions for accessing documents, submitting comments, and viewing the docket after the close of the comment period, is available through the site's “FAQ” link.

All comments will be available for public inspection online at the Federal eRulemaking Portal (https://www.regulations.gov).

Title: Rural Cooperative Development Grant program.

OMB Control Number: 0570-0006.

Type of Request: Revision of a currently approved information collection under 7 CFR part 4284 Subpart F.

Abstract: The primary purpose of RCDG is to promote understanding, use, and development of the cooperative form of business as a viable option for enhancing the income of agricultural producers and other rural residents. The primary objective of the RCDG program is to improve the economic condition of rural areas through cooperative development. Grants will be awarded on a competitive basis to nonprofit corporations and institutions of higher education based on specific selection criteria.

Estimate of Burden: Public reporting burden for this collection of information is estimated to average 11.9 hours per response.

Respondents: Nonprofit corporations and institutions of higher education.

Estimated Number of Respondents: 41.

Estimated Number of Responses per Respondent: 12.78.

Estimated Number of Responses: 524.

Estimated Total Annual Burden on Respondents: 6,259 hours.

Copies of this information collection can be obtained from Katherine Anne Mathis, Rural Development Innovation Center—Regulations Management Division, at (202) 713-7565. Email: katherine.mathis@usda.gov.

All responses to this notice will be summarized and included in the request for OMB approval. All comments will also become a matter of public record.

Karama Neal,
Administrator, Rural Business-Cooperative Service, USDA Rural Development.

[FR Doc. 2023-25876 Filed 11-22-23; 8:45 am]

BILLING CODE 3410-XY-P